DEPARTMENT OF ENERGY

Federal Energy Regulatory Commission

[Docket Nos. RP97-369-017 and RP98-54-034]

Colorado Interstate Gas Company; Notice of Refund Report

July 17, 2002.

Take notice that on July 11, 2002, Colorado Interstate Gas Company (CIG) tendered for filing its fourth and fifth refund reports in Docket Nos. RP97-369 and RP98-54 et al.

CIG states that this filing and refunds were made to comply with the Commission's Order of September 10, 1997. CIG states that refunds were paid by CIG on December 20, 2000, January 22, 2001 and January 24, 2001.

The May 18, 2001, refund report summarizes the refunds made as of that date by CIG for Kansas ad valorem tax overpayments, pursuant to the Commission's Order dated September 10, 1997 and Settlement Order dated November 21, 2000. Lump sum cash refunds were made by CIG to its former jurisdictional sales customers. The May 18, 2002, refund report summarizes the refunds made as of that date by CIG for Kansas ad valorem tax overpayments, pursuant to the Commission's Order dated September 10, 1997 and Settlement Order dated November 21, 2000. No lump sum cash refunds were made by CIG to its former jurisdictional sales customers in this report. In instances where payment has not been made within thirty (30) days of receipt from the producers, appropriate interest will be computed as provided in the Order.

CIG states that copies of CIG's filing were served on all parties of record in Docket No. RP98-54-000, et al.

Any person desiring to protest said filing should file a protest with the Federal Energy Regulatory Commission, 888 First Street, NE., Washington, DC 20426, in accordance with Section 385.211 of the Commission's Rules and Regulations. All such protests must be filed on or before July 24, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18540 Filed 7-22-02; 8:45 am]

BILLING CODE 6717-01-P